DEPARTMENT OF COMMERCE

National Oceanic and Atmospheric Administration

RIN 0648-XA730

Magnuson-Stevens Act Provisions; General Provisions for Domestic Fisheries; Application for Exempted Fishing Permit

AGENCY: National Marine Fisheries Service (NMFS), National Oceanic and Atmospheric Administration (NOAA), Department of Commerce.

ACTION: Notice; request for comments.

SUMMARY: NMFS is soliciting public comment on an exempted fishing permit application that would exempt one commercial fishing vessel from the Atlantic surfclam and ocean quahog Georges Bank Closure Area to continue testing the safety and efficacy of harvesting Atlantic surfclams and ocean quahogs from the closure area. This would be a continuation of a research project that has been ongoing since 2006. NMS has made a preliminary determination that the exempted fishing permit application contains all of the required information and warrants further consideration.

DATES: Comments must be received on or before November 8, 2011.

ADDRESSES: Comments on this notice may be submitted by e-mail. The mailbox address for providing e-mail comments is NERO.EFP@noaa.gov. Include in the subject line of the e-mail comment the following document identifier: “Comments on 2012 GB PSP Closed Area Exemption.”

Written comments should be sent to Patricia A. Kurkul, Regional Administrator, NMFS, Northeast Regional Office, 55 Great Republic Drive, Gloucester, MA 01930. Mark the outside of the envelope “Comments on 2012 GB PSP Closed Area Exemption.” Comments may also be sent via facsimile (fax) to (978) 281-9135.

Copies of supporting documents referenced in this notice are available from NMFS, 55 Great Republic Drive, Gloucester, MA 01930, and are available via the Internet at http://www.nero.noaa.gov/sfd/clams.

FOR FURTHER INFORMATION CONTACT: Jason Berthiaume, Fishery Management Specialist, phone 978-281-9177.

SUPPLEMENTARY INFORMATION: The applicant, Wallace & Associates, of Cambridge, MD, requests on behalf of Truex Enterprises a renewal of their current EFP, which is due to expire on December 31, 2011, to allow the catch and retention for sale of Atlantic surfclams and ocean quahog from within the Atlantic surfclam and ocean quahog Georges Bank (GB) Closure Area. The GB Closed Area is located east of 69°00' W. long. and south of 42°20' N. lat and has been closed since May 25, 1990, due to the presence of a toxin (saxotoxins) that cause paralytic shellfish poisoning (PSP). Due, in part, to the inability to test and monitor this area for the presence of PSP, this closure was made permanent through Amendment 12 to the Atlantic Surfclam and Ocean Quahog Fishery Management Plan in 1999.

The primary goal of the proposed study is to test the efficacy of a sampling protocol that was developed by state and Federal regulatory agencies to test for presence of saxotoxins in shellfish, and thus has been in a trial period through previous EFPs since 2006. This protocol would facilitate the harvest of shellfish from waters susceptible to harmful algal blooms, which produce the saxotoxins, but that are not currently under rigorous water quality monitoring programs by either state or Federal management agencies. A copy of the sampling protocol is available from the NMFS Northeast Region Web site: http://www.nero.noaa.gov/sfd/clams.

This project is a pilot program with the goal of determining if the shellfish harvested from the GB Closure Area are safe for human consumption under the U.S. Food and Drug Administration (FDA) International Shellfish Sanitation Conference (ISSC) guidelines and requirements. The protocol in this pilot program will be presented to the ISSC meeting in October 2011 to adopt the protocol into the National Shellfish Sanitation Program (NSSP) and change it from a pilot program to a permanent part of the U.S. FDA ISSC Shellfish Sanitation Program. If adopted, additional vessel participants would be required to obtain an EFP to participate in this or similar projects.

The proposed project would continue to conduct a trial for the sampling protocol in an exemption zone within the larger 1990 GB Closure Area with one fishing vessel. The exemption zone would not include any Northeast multispecies or essential fish habitat year-round closure areas. This proposed exempted fishing activity would occur during the 2012 calendar year, using surfclam quota allocated to Truex Enterprises under the Federal individual transferable quota program. The applicant has estimated a harvest of 250,000 bushels (8,809,768 L) of surfclams from the exemption area. The exemption area has been tested in cooperation with the FDA from 2006 to the present.

It is expected that harvesting under an EFP would occur on approximately 60-70 days during 2012. Species to be harvested are surfclams and ocean quahogs, utilizing a 170-inch (4.3 m) hydraulic clam dredge. Approximately 30 tows per day would be made for 10 minutes each, at a speed of about 2.5 knots. There are no discards or known interactions with protected species. Harvesting under an EFP is not expected to exceed two trips per week. Harvested clams would be delivered to Sea Watch International in New Bedford, MA. Harvests would be predominantly surfclams from the area known as Cultivator Shoals.

The U.S. FDA would receive samples from each trip for their information and independent analyses in addition to the onboard screening and the dockside testing. Onboard screening is conducted on five samples taken from each corner and the center of each lot to be harvested (not more than 3-square miles (4.8 square kilometers)) by Jellett Rapid Test Kits and Abraxis Kits. Dockside testing would be conducted by the Massachusetts Division of Marine Fisheries laboratory in Gloucester, MA. State and Federal agencies would be notified of each trip, the place and time of landing, the results of onboard screening, and dockside laboratory results. Federal and state agencies are provided a copy of the Declaration of Harvest form from each trip, which details the location of harvest, cage tag numbers, and results of onboard screening.

The applicant has obtained endorsements for the EFP and the sampling protocol from the states of Rhode Island, New Jersey, Delaware, and Massachusetts, the states in which it intends to land and process the product harvested under the EFP. Each state is responsible for regulating the molluscan shellfish industry within its jurisdiction and ensuring the safety of shellfish harvested within or entering its borders. The sampling protocol and the pilot project that would be authorized by this EFP have also since been endorsed by the Executive Board of the ISSC.

Regulations under the Magnuson-Stevens Fishery Conservation and Management Act require publication of this notification to provide interested parties the opportunity to comment on applications for proposed exempted fishing permits. The Assistant Regional Administrator has made an initial determination that, based on a preliminary review of the proposed subject research and the criteria provided in section 5.05a-c and section 6.03c.3(a) of NOAA's Administrative Order 216-6, a Categorical Exclusion appears to be justified for this EFP. In accordance with NOAA's Administrative Order 216-6, a Categorical Exclusion, or other appropriate National Environmental Policy Act document, would be completed prior to the issuance of the exempted fishing permit. Further review and consultation may be necessary before a final determination is made to issue the exempted fishing permit.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: October 18, 2011.
Emily H. Menashes,
Acting Director, Office of Sustainable Fisheries, National Marine Fisheries Service.

[FR Doc. 2011-27479 Filed 10-21-11; 8:45 am]

BILLING CODE 3510-22-P